DEPARTMENT OF VETERANS AFFAIRS

Computer Matching Program Between the Department of Veterans Affairs (VA) and the Social Security Administration (SSA)

AGENCY: Department of Veterans Affairs.

ACTION: Notice of computer match program.

SUMMARY: Notice is hereby given that the Department of Veterans Affairs (VA) intends to conduct a computer matching program with the Social Security Administration (SSA) to verify self-reported household income information for veterans whose eligibility for VA medical care is based on income levels.

Legal Authority: The authority for this matching program is contained in 38 U.S.C. section 5317, 38 U.S.C. 5106, and 26 U.S.C. 6103(l)(7)(D)(viii).

Purpose: The purpose of this match is to obtain SSA earned income information data needed for the income verification process.

Records To Be Matched: The VA records involved in the match are “Health Eligibility Center (HEC) Records” (89VA19). The SSA records are from the Earning Recording and Self Employment Income System, SSA/OEEAS 09-60-0059.

DATES: This match will start no sooner than 30 days after publication in the Federal Register, and end not more than 18 months later unless extended for 12 months in accordance with law.

ADDRESSES: Written comments may be submitted by mail or hand-delivery to Director, Regulations Management (00REG1), Department of Veterans Affairs, 810 Vermont Ave., NW., Room 1068, Washington, DC 20420; fax to (202) 273-9026; e-mail to VARegulations@mail.va.gov; or, through http://www.Regulations.gov. All comments received will be available for public inspection in the Office of Regulation Policy and Management, Room 1063B, between the hours of 8 a.m. and 4:30 p.m., Monday through Friday (except holidays). Please call (202) 273-9515 for an appointment.

FOR FURTHER INFORMATION CONTACT: Janet Ficco, Associate Director, Income Verification Division, Health Eligibility Center, (404) 235-1340.

SUPPLEMENTARY INFORMATION: A copy of this notice has been sent to the appropriate Committees of both Houses of Congress and to the Office of Management and Budget. This information is required by Title 5 U.S.C. 552a(e)(12).

Report of Matching Program

a. Names of participating agencies: Department of Veterans Affairs and the Social Security Administration.

b. Program description:

(1) Purpose: The Department of Veterans Affairs (VA), Veterans Health Administration (VHA), plans to match the household income information contained in the records of certain nonservice-connected veterans and zero percent service-connected (noncompensable) veterans with the income records for those persons maintained by the Social Security Administration (SSA). Veterans subject to income verification matching are those veterans who are receiving VA medical care whose eligibility is based on income level.

Information about a veteran's household income (i.e., veteran, spouse, and dependents) is obtained when the veteran makes application for medical care. This information is necessary to determine whether the veteran's attributable income is below the established inability to defray medical care copayment threshold, thus enabling the veteran to receive cost free medical care. The proposed matching program will enable VA to verify a veteran's household income information and thereby more accurately determine his/her eligibility for medical care.

(2) Procedures: The Health Eligibility Center (HEC) will prepare an extract file on nonservice-connected veterans and zero percent service connected (noncompensable) veterans whose attributable income is below the established income threshold. This HEC file will be matched against SSA records of earned income. When the returned data indicates that a veteran's income is above the established threshold HEC will initiate an extensive case development and verification process. HEC will make every reasonable attempt to verify identified discrepancies from the match directly with the veteran and/or spouse. Additionally, the veteran will be advised of the potential changes to his/her medical care eligibility, and the potential billing actions for copayments. When unable to verify income with veteran/spouse HEC will conduct independent verification with the payer(s) of the reported income. Before any adverse action is taken, the individual(s) identified by the match will be given the opportunity to contest the findings. Where there are reasonable grounds to believe that there has been a violation of criminal laws, the matter will be referred for prosecution consideration in accordance with existing VA policies.

c. Authority: Title 38, U.S.C. sections 5106 and 5317 and 26 U.S.C. section 6103 (l)(7)(D)(viii).

d. Records to be matched: The VA records involved in the match are “Health Eligibility Center Records” (89VA19). The SSA records are from the Earnings Recording and Self-Employment Income System, SSA/OEEAS 09-60-0059.

e. Period of match: The initial date exchanges are expected to begin 40 days after the matching agreements are signed by the Data Integrity Boards and Congressional and Office of Management and Budget notification, and 30 days from the date of publication of notice in the Federal Register or 40 days from the date of this notice is approved, whichever is later.

Approved: June 30, 2005.
Gordon H. Mansfield,
Deputy Secretary of Veterans Affairs.

[FR Doc. E5-3808 Filed 7-15-05; 8:45 am]

BILLING CODE 8320-01-P